DEPARTMENT OF DEFENSE

Department of the Army

Availability of Non-Exclusive, Exclusive, or Partially Exclusive Licensing of U.S. Patent Concerning Invaplex From Gram Negative Bacteria, Method of Purification and Methods of Use

AGENCY: Department of the Army, DoD.

ACTION: Notice.

SUMMARY: In accordance with 37 CFR 404.6 and 404.7, announcement is made of the availability for licensing of U.S. Patent No. 6,245,892 entitled “Invaplex From Gram Negative Bacteria, Method of Purification and Methods of Use,” filed June 12, 2001. Foreign rights are also available (PCT/US99/22771). The United States Government, as represented by the Secretary of the Army, has rights in this invention.

ADDRESSES: Commander, U.S. Army Medical Research and Materiel Command, ATTN: Command Judge Advocate, MCMR-JA, 504 Scott Street, Fort Detrick, Frederick, MD 21702-5012.

FOR FURTHER INFORMATION CONTACT: For patent issues, Ms. Elizabeth Arwine, Patent Attorney, (301) 619-7808. For licensing issues, Dr. Paul Mele, Office of Research & Technology Assessment, (301) 619-6664, both at telefax (301) 619-5034.

SUPPLEMENTARY INFORMATION: Invaplex, a novel composition comprising invasion proteins and LPS from gram-negative bacteria is described as well as methods of using the novel composition as an adjuvant and a diagnostic tool.

Luz D. Ortiz,
Army Federal Register Liaison Officer.

[FR Doc. 04-438 Filed 1-8-04; 8:45 am]

BILLING CODE 3710-08-M